ENVIRONMENTAL PROTECTION AGENCY

[EPA-HQ-OECA-2013-0331; FRL—9903-03-OEI]

Information Collection Request Submitted to OMB for Review and Approval; Comment Request; NSPS for New Residential Wood Heaters (Renewal)

AGENCY: Environmental Protection Agency (EPA).

ACTION: Notice.

SUMMARY: The Environmental Protection Agency has submitted an information collection request (ICR), “NSPS for New Residential Wood Heaters (40 CFR Part 60, Subpart AAA) (Renewal)” (EPA ICR No. 1176.11, OMB Control No. 2060-0161 to the Office of Management and Budget (OMB) for review and approval in accordance with the Paperwork Reduction Act (44 U.S.C. 3501 et seq). This is a proposed extension of the ICR, which is currently approved through January 31, 2014. Public comments were previously requested via the Federal Register (78 FR 33409) on June 4, 2013 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before December 23, 2013.

ADDRESSES: Submit your comments, referencing Docket ID Number EPA-HQ-OECA-2013-0331, to: (1) EPA online, using www.regulations.gov (our preferred method), by email to: docket.oeca@epa.gov, or by mail to: EPA Docket Center, Environmental Protection Agency, Mail Code 28221T, 1200 Pennsylvania Ave. NW., Washington, DC 20460; and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Learia Williams, Monitoring, Assistance, and Media Programs Division, Office of Compliance, Mail Code 2227A, Environmental Protection Agency, 1200 Pennsylvania Ave. NW., Washington, DC 20460; telephone number: (202) 564-4113; fax number: (202) 564-0050; email address: williams.learia@epa.gov.

SUPPLEMENTARY INFORMATION: Supporting documents which explain in detail the information that the EPA will be collecting are available in the public docket for this ICR. The docket can be viewed online at www.regulations.gov or in person at the EPA Docket Center, WJC West, Room 3334, 1301 Constitution Ave., NW., Washington, DC. The telephone number for the Docket Center is 202-566-1744. For additional information about EPA's public docket, visit www.epa.gov/dockets.

Abstract: Manufacturers and accredited laboratories are required to make several one-time and periodic reports necessary for the implementation and enforcement of the rule. Also, laboratories, manufacturers, distributors, and retailers are required to retain certain records.

Form Numbers: None.

Respondents/affected entities: New residential wood heaters.

Respondent's obligation to respond: Mandatory (40 CFR part 60, subpart AAA)

Estimated number of respondents: 947 (total).

Frequency of response: Occasionally.

Total estimated burden: 11,749 hours (per year). “Burden” is defined at 5 CFR 1320.3(b).

Total estimated cost: $2,885,287 (per year), includes $1,736,075 in both annualized capital/startup and operation & maintenance costs.

Changes in the Estimates: There is an increase in the total estimated respondent and Agency burdens as currently identified in the OMB Inventory of Approved Burdens. The change in burdens from the most recently-approved ICR is due to an increase in the number of sources subject to the standard, and is not due to any program changes. The number of sources has been increased in this ICR to reflect more current information obtained during development of proposed revisions to the NSPS.

There is also an increase in both respondent and Agency burden costs from the most-recently approved ICR due to the use of updated labor rates. This ICR references labor rates from the Bureau of Labor Statistics to calculate respondent burden costs, and references labor rates from OPM to calculate Agency burden costs.

There is an increase in both capital/startup and O&M costs as compared to the previous ICR; however, this change also is not due to any program changes. Similar to the respondent burden adjustments, the change is due to the increased number of sources estimated to be subject to the standard, and is not due to any program changes.

John Moses,
Director, Collection Strategies Division.

[FR Doc. 2013-27980 Filed 11-21-13; 8:45 am]

BILLING CODE 6560-50-P